NUCLEAR REGULATORY COMMISSION

[Docket Nos. 50-302 and 72-1035; NRC-2024-0124]

Accelerated Decommissioning Partners Crystal River Unit 3, LLC; Crystal River Nuclear Power Station, Unit 3; Environmental Assessment and Finding of No Significant Impact

AGENCY: Nuclear Regulatory Commission.

ACTION: Notice; issuance.

SUMMARY: The U.S. Nuclear Regulatory Commission (NRC) is issuing a finding of no significant impact (FONSI) and accompanying environmental assessment (EA) regarding the NRC's consideration of a license amendment request by Accelerated Decommissioning Partners Crystal River Unit 3, LLC (ADP) to approve the License Termination Plan (LTP) for the Crystal River Nuclear Power Station, Unit 3 (CR3), located in Citrus County, Florida. If approved, the amendment would add a license condition to the ADP license reflecting the NRC's approval of its LTP and establishing criteria for determining when changes to the LTP require prior NRC approval. ADP would use the LTP to meet the requirements for terminating the license and releasing the site for unrestricted use. Based on the EA, the NRC staff has concluded that there will be no significant impacts to environmental resources from the requested license amendment, and therefore, a FONSI is appropriate.

DATES: The EA and FONSI referenced in this document are available on July 17, 2024.

ADDRESSES: Please refer to Docket ID NRC-2024-0124 when contacting the NRC about the availability of information regarding this document. You may obtain publicly available information related to this document using any of the following methods:

• Federal Rulemaking Website: Go to https://www.regulations.gov and search for Docket ID NRC-2024-0124. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Amy Minor, Office of Nuclear Material Safety and Safeguards, U.S. Nuclear Regulatory Commission, Washington, DC 20555-0001, telephone: 816-200-1454; email: Amy.Hesterminor@nrc.gov.

SUPPLEMENTARY INFORMATION:

I. Introduction

The NRC is considering issuance of a license amendment request to approve the LTP for the CR3, located in Citrus County, Florida, as part of ADP's part 50 of title 10 of the Code of Federal Regulations (10 CFR), “Domestic Licensing of Production and Utilization Facilities,” Facility Operating License No. DPR-72. If granted, the license amendment would add a condition to ADP's license reflecting the NRC's approval of ADP's LTP and establishing criteria for determining when changes to the LTP require prior NRC approval. As required by 10 CFR part 51, “Environmental Protection Regulations for Domestic Licensing and Related Regulatory Functions,” the NRC prepared an EA. Based on the results of the EA, the NRC has determined not to prepare an environmental impact statement for the license amendment request and is issuing a FONSI.

Construction of the CR3 began in 1968, and the NRC issued an operating license to Duke Energy Florida (DEF) in 1977. The CR3 began commercial operation in March 1977. The CR3 stopped operations in 2009 and was officially retired on February 5, 2013.

On December 2, 2013, DEF submitted a Post-Shutdown Decommissioning Activities Report (PSDAR) to NRC selecting SAFSTOR as the plant decommissioning strategy. SAFSTOR is a method of decommissioning in which the nuclear facility is placed and maintained in a safe stable condition for a number of years until it is subsequently decontaminated and dismantled to levels that permit license termination. During SAFSTOR, a facility is left intact, but the fuel has been removed from the reactor vessel and radioactive liquids have been drained from systems and components and then processed. Radioactive decay occurs during SAFSTOR period, thus reducing the quantity of contaminated and radioactive material that must be disposed of during decontamination and dismantlement. In January 2018, DEF certified to the NRC that DEF had removed all spent fuel assemblies from the CR3 spent fuel pool and loaded the final storage cask used to store spent fuel at the CR3 Independent Spent Fuel Storage Installation.

In 2020, the NRC approved the requested transfer of the CR3 from DEF to ADP to commence decontamination, dismantlement, and demolition. On October 1, 2020, ADP updated the PSDAR to change the plant decommissioning strategy from SAFSTOR to DECON, which is an option for reactor decommissioning in which the equipment, structures, and portions of a facility and site containing radioactive contaminants are removed or decontaminated to a level that permits termination of the license shortly after cessation of operations. ADP submitted the LTP on December 12, 2022, in accordance with 10 CFR 50.82(a)(9), and submitted an updated LTP on March 29, 2024.

II. Environmental Assessment

Description of the Proposed Action

The proposed action is the review and subsequent approval, if appropriate, of a license amendment to ADP to approve the LTP for the CR3. If approved, the amendment would add a license condition to the ADP license reflecting the NRC's approval of the LTP and establishing criteria for determining when changes to the LTP require prior NRC approval. The proposed action is described in ADP's 2022 LTP application, as supplemented by the updated 2024 LTP, and responses to requests for additional information dated May 9, 2024.

Purpose and Need for the Proposed Action

The purpose of and need for the proposed action is to allow completion of decommissioning of the CR3 site by ADP, termination of the CR3 operating license by the NRC, and subsequent release of the site for unrestricted use. The NRC regulation at 10 CFR 50.82 sets forth the process for the licensee to decommission its nuclear power plant, including submission of the LTP. The NRC will approve the LTP, provided that the LTP meets the criteria in 10 CFR 50.82(a)(10).

Environmental Impacts of the Proposed Action

The NRC staff considered the potential impacts of the proposed action on land use; visual and scenic resources/aesthetics; climatology, meteorology, and air quality; noise; geology and soils; water resources; historic and cultural resources; ecological resources; socioeconomics; public and occupation health; transportation and traffic; environmental justice; and waste management. The Decommissioning Generic Environmental Impact Statement (GEIS) (NUREG-0586, Supplement 1, Volume 1) generically addressed many of the potential environmental impacts of decommissioning at the CR3. During its review of the LTP, the NRC concluded that the impacts for most resource areas—onsite land use; water resources; air quality; ecology, not including threatened and endangered species or outside the operational area; socioeconomics; historic and cultural resources within the operational area; aesthetics; noise; and transportation—were still bounded by the Decommissioning GEIS. Therefore, the NRC does not expect impacts associated with these issues beyond those discussed in the GEIS, which concluded that the impact level for these issues was SMALL.

Although the Decommissioning GEIS did evaluate radioactive waste management, the NRC staff determined that the GEIS had underestimated the volume of low-level radioactive waste that the CR3 would produce. Consequently, the NRC staff determined the effects of the proposed action of radioactive waste management for CR3 on a site-specific basis.

In the Decommissioning GEIS, the NRC staff concluded that it could not necessarily determine the environmental impacts of decommissioning generically for six environmental resource areas (offsite land use, threatened and endangered species, aquatic ecology beyond the operational area, terrestrial ecology beyond the operational area, environmental justice, and historic and cultural resources beyond the operational area). The Decommissioning GEIS determined that for these six resource areas a site-specific analysis would be required as was done in the CR3 EA. In addition, topics not included in the Decommissioning GEIS that the NRC staff evaluated in the CR3 EA include the affected environment, climate change, cumulative impacts, and nonradioactive waste management.

In the CR3 EA, the NRC staff evaluated the potential environmental impacts on the six site-specific environmental resource areas as well as the four resource areas not evaluated in the Decommissioning GEIS and did not identify any significant impacts. For the proposed action there are no planned activities outside of the operational area, and ADP plans to use best management practices and obtain all necessary licenses from Federal or State agencies to limit potential impacts and protect surrounding lands. Therefore, the proposed action would result in no significant impacts and there would be no significant cumulative effects when added to the past, present, or reasonably foreseeable future actions at the CR3 site.

Environmental Impacts of the Alternatives to the Proposed Action

As an alternative to the proposed action, the staff considered the “no-action” alternative. Under the no-action alternative, the NRC would not approve the LTP or the license amendment request because regulatory requirements have not been met.

If the NRC was unable to approve the LTP because the regulatory requirements were not met, ADP would need to take additional actions to prepare an LTP that meets the requirements in 10 CFR 50.82(a)(10). Under that scenario, ADP would resubmit the LTP, activities at the CR3 would likely continue, and the environmental impacts would not change as a result of the additional time required for the LTP resubmission.

Agencies and Persons Consulted

On May 20, 2024, the NRC staff provided a copy of the draft EA to the Florida Department of Health for its review and comment. In a letter dated June 7, 2024, the State responded with no comments on the draft EA.

NRC staff conducted National Historic Preservation Act consultation pursuant to 36 CFR 800.8(c), including submitting required notification to the Florida State Historic Preservation Officer (SHPO) and Advisory Council on Historic Preservation (ACHP). The NRC staff solicited comments from the public on the historic and cultural resources sections of the draft EA and findings. Staff published the draft sections on the NRC website and electronically notified the four Federally recognized Indian Tribes with historic and ancestral ties to the project vicinity, the Florida SHPO, and members of the public who have indicated their interest in the CR3. No members of the public commented on the historic and cultural resources sections of the draft EA and findings. The NRC staff received a response from the Seminole Tribe of Florida indicating that the Tribe had no objections or other comments. The NRC staff did not receive a response from the other Indian Tribes it contacted. Staff made a determination of no historic properties affected and has received SHPO concurrence and no objections from other parties. The Florida SHPO responded on May 20, 2024, with its concurrence with NRC staff's determination. The ACHP responded on May 20, 2024, confirming receipt of NRC's notification pursuant to 36 CFR 800.8(c).

III. Finding of No Significant Impact

Based on its review of the proposed license amendment request, in accordance with the requirements of 10 CFR part 51, the NRC staff has determined that issuing the requested amendment, if appropriate, amending ADP's DPR-72 license would not significantly affect the quality of human environment. No significant radiological or non-radiological impacts are expected from the proposed action. Therefore, the NRC staff has determined that pursuant to 10 CFR 51.31, “Determinations based on environmental assessment,” preparation of an EIS is not required for the proposed action, and pursuant to 10 CFR 51.32, “Finding of no significant impact,” a FONSI is appropriate. In accordance with 10 CFR 51.32(a)(4), this FONSI incorporates the EA set forth in this notice by reference.

IV. Availability of Documents

The documents identified in the following table are available to interested persons through ADAMS.

Document description | ADAMS accession No.
ADP CR3, LLC, License Amendment Request, Addition of License Condition 2.C.21, “License Termination Plan,” dated December 12, 2022 | ML22355A441.
ADP CR3, LLC, Response to Request for Additional Information Regarding the LTP, dated March 29, 2024 | ML24089A036.
ADP CR3, LLC, Response to Request for Additional Information for the EA of the LTP, dated May 9, 2024 | ML24131A075.
Crystal River LTP Environmental Assessment | ML24081A068.
NUREG-0586, Supplement 1, Volume 1 GEIS on Decommissioning Nuclear Facilities | ML023470304.
Crystal River Unit 3—Post-Shutdown Decommissioning Activities Report, dated December 2, 2013 | ML13340A009.
Crystal River Unit 3—30-Day Spent Fuel Cask Registration and Certification of Permanent Removal of All Spent Fuel Assemblies from the Spent Fuel Pools, dated January 15, 2018 | ML18015A006.
Transmittal of Draft EA to Florida Department of Health, dated May 20, 2024 | ML24143A024.
Florida Department of Health Comments on Draft EA, dated June 7, 2024 | ML24159A779.
Request to initiate Section 106 Consultation Regarding the License Termination Plan for Crystal River, Unit 3, April 2, 2024 | ML24054A076 (Package).
Florida SHPO Response to initiate Section 106 Consultation Regarding the License Termination Plan for Crystal River, Unit 3, dated May 20, 2024 | ML24143A021.
ACHP Response to initiate Section 106 Consultation Regarding the License Termination Plan for Crystal River, Unit 3, dated May 20, 2024 | ML24143A013.
NRC Request for Concurrence with Endangered Species Act Determinations for Crystal River Unit 3 Nuclear Generating Plant License Termination Plan, dated February 29, 2024 | ML24060A086.
Supplemental to Request for Concurrence with Endangered Species Act Determinations for Crystal River Unit 3 Nuclear Generating Plant License Termination Plan, dated June 18, 2024 | ML24190A138.
RAI2 NRC Response to FWS ESA Crystal River Unit 3 LTP, dated July 3, 2024 | ML24191A423.
FWS Concurrence for Crystal River Unit 3 | ML24190A191.

Dated: July 12, 2024.
For the Nuclear Regulatory Commission.
Christopher M. Regan,
Director, Division of Rulemaking, Environmental, and Financial Support, Office of Nuclear Material Safety and Safeguards.

[FR Doc. 2024-15712 Filed 7-16-24; 8:45 am]

BILLING CODE 7590-01-P